DEPARTMENT OF DEFENSE

Department of the Army

Department of Defense Historical Advisory Committee; Meeting

Correction

In notice document 07-4694 appearing on page 54014 in the issue of Friday, September 21, 2007, make the following corrections:

1. In the second column, in the SUMMARY paragraph, under Place, “Militry” should read “Military”.

2. In the same column, in the last line, “FY 1007” should read “FY 2007”.

3. In the third column, in the first full paragraph, in the last line, “20-319-5058” should read “20319-5058”.

[FR Doc. C7-4694 Filed 9-25-07; 8:45 am]

BILLING CODE 1505-01-D

DEPARTMENT OF THE TREASURY

Internal Revenue Service

26 CFR Part 1

[REG-142695-05]

RIN 1545-BF00

Employee Benefits - Cafeteria Plans

Correction

In proposed rule document E7-14827 beginning on page 43938 in the issue of Monday, August 6, 2007, make the following correction:

On page 43939, in the first column, the first heading:

I. New Proposed § 1.125-1-Qualified and Nonqualified Benefits in Cafeteria Plans Section 125 Exclusive Noninclusion Rule

should be two separate headings:

I. New Proposed § 1.125-1-Qualified and Nonqualified Benefits in Cafeteria Plans

Section 125 Exclusive Noninclusion Rule

[FR Doc. Z7-14827 Filed 9-25-07; 8:45 am]

BILLING CODE 1505-01-D